FEDERAL HOUSING FINANCE BOARD

[No. 2007-N-07]

Submission for OMB Review; Comment Request

AGENCY: Federal Housing Finance Board.

ACTION: Notice.

SUMMARY: In accordance with the requirements of the Paperwork Reduction Act of 1995, the Federal Housing Finance Board (Finance Board) has submitted the information collection entitled “Capital Requirements for the Federal Home Loan Banks” to the Office of Management and Budget (OMB) for review and approval of a 3-year extension of the OMB control number, 3069-0059, which is due to expire on May 31, 2007.

DATES: Interested persons may submit comments on or before May 14, 2007.

ADDRESSES: Submit comments to the Office of Information and Regulatory Affairs of the Office of Management and Budget, Attention: Desk Officer for the Federal Housing Finance Board, Washington, DC 20503.

FOR FURTHER INFORMATION CONTACT: Jonathan F. Curtis, Senior Financial Analyst, Regulations & Research Division, Office of Supervision, by e-mail at curtisj@fhfb.gov, by telephone at 202-408-2866, or by regular mail at the Federal Housing Finance Board, 1625 Eye Street, NW., Washington DC 20006.

SUPPLEMENTARY INFORMATION:

A. Need For and Use of the Information Collection

Section 6 of the Federal Home Loan Bank Act establishes the capital structure for the Federal Home Loan Banks (Banks) and requires the Finance Board to issue regulations prescribing uniform capital standards applicable to each Bank. 12 U.S.C. 1426. To implement the statutory capital structure for the Banks, the Finance Board added parts 930, 931, 932, and 933 to its regulations. 12 CFR parts 930, 931, 932, and 933. Part 930 establishes definitions applicable to risk management and the capital regulations; part 931 concerns Bank capital stock; part 932 establishes Bank capital requirements; and part 933 sets forth the requirements for Bank capital structure plans. The implementing regulations also include conforming changes to parts 917, 925, and 956, which concern, respectively, the powers and responsibilities of Bank boards of directors and senior management, Bank members, and Bank investments. 12 CFR parts 917, 925, and 956.

The Banks use the information collection contained in the rules implementing section 6 to determine the amount of capital stock a member must purchase to maintain membership in and to obtain services from a Bank. More specifically, sections 931.3 and 933.2(a) of the Finance Board rules authorize a Bank to offer its members several options to satisfy required investments in capital stock as activity-based and/or membership stock purchase requirements. 12 CFR 931.3 and 933.2(a). The information collection is necessary to provide the Banks with the flexibility to meet the statutory and regulatory capital structure requirements while allowing Bank members to choose the option best suited to their business requirements.

The OMB control number for the information collection is 3069-0059, and it is due to expire on May 31, 2007. The likely respondents include Bank members.

B. Burden Estimate

While the number of member respondents and the volume of information have increased, the overall burden has decreased significantly because the Banks can access almost all of the data required by the information collection electronically from call reports the members already must file with their primary regulator. The estimate for the total annual hour burden for all member respondents is 8,953 hours. The estimate for the total annual cost burden is $367,073. These estimates are based on the following calculations:

The Banks determine members' activity-based stock purchase requirements on a daily basis. Based on input from the Banks, we estimated the cost and hour burden of the activity-based stock purchase requirement information collection using a daily average of 564 member respondents submitting 1 report for each of the 260 business days during the year. The estimate for the average hours per response is .05 hours. The estimate for member respondents' annual hour burden related to activity-based stock purchase requirements is 7,332 hours (564 average daily activity-based member respondents × 260 responses per member × 0.05 hours per response). The estimate for the annual cost burden is $300,612 (7,332 hours × $41 hourly rate).

The Finance Board estimates the total annual average number of member respondents for membership stock purchase requirements at 8,105, with 4 responses per member. The estimate for the average hours per response is 0.05 hours. The estimate for member respondents' annual hour burden related to membership stock purchase requirements is 1,621 hours (8,105 membership investment member respondents × 4 responses per member × 0.05 hours per response). The estimate for the annual cost burden is $66,461 (1,621 hours × $41 hourly rate).

C. Comment Request

In accordance with the requirements of 5 CFR 1320.8(d), the Finance Board published a request for public comments regarding this information collection in the Federal Register on January 26, 2007. See 72 FR 3848 (Jan. 26, 2007). The 60-day comment period closed on March 27, 2007. The Finance Board received no public comments.

Written comments are requested on: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology. Comments may be submitted to OMB in writing at the address listed above.

Dated: April 6, 2007.
By the Federal Housing Finance Board.
Neil R. Crowley,
Acting General Counsel.

[FR Doc. E7-6890 Filed 4-11-07; 8:45 am]

BILLING CODE 6725-01-P